DEPARTMENT OF LABOR

Employment and Training Administration

[SGA/DFA-PY 05-06]

Solicitation for Grant Applications (SGA); Older Americans Act—Senior Community Service Employment Program National Grants for Program Year 2006

AGENCY: Employment and Training Administration (ETA), Labor.

ACTION: Notice of extension of closing date.

SUMMARY: The Employment and Training Administration is extending the closing date of the availability to fund the national grants portion of the Senior Community Service Employment Program.

FOR FURTHER INFORMATION CONTACT: James Stockton, Grant Officer, Division of Federal Assistance, at (202) 693-3335.

Date Extension: In the Federal Register of March 2, 2006, in FR Doc. 06-1959, April 17, column changes the DATES caption to read:

“DATES: The closing date for receipt of the application is Friday, May 26, 2006 at 4:45 p.m. (eastern time) at the address listed.”

Signed at Washington, DC, this 4th day of April, 2006.
James W. Stockton,
Grant Officer.

[FR Doc. 06-3384 Filed 4-6-06; 8:45 am]

BILLING CODE 4510-30-P